FEDERAL COMMUNICATIONS COMMISSION

47 CFR Part 4

[PS Docket Nos. 15-80, 11-82, ET Docket No. 04-35, FCC 16-63]

Disruptions to Communications

AGENCY: Federal Communications Commission.

ACTION: Final rule; announcement of effective dates.

SUMMARY: In this document, the Commission announces that the Office of Management and Budget (OMB) has approved, for a period of three years, the information collection associated with the Commission's Report and Order and Order on Reconsideration (Order)'s rules. This document is consistent with the Order, which stated that the Commission would publish a document in the Federal Register announcing the effective date of those rules.

DATES:

Effective dates: The amendments to 47 CFR 4.7(d) and (e)(2), and 4.9 (a)(2), the second sentence in paragraph (a)(4), the second and sixth sentence in paragraph (b), (e), (f)(2), and the second sentence in paragraph (f)(4) published at 81 FR 45055, July 12, 2016, are effective August 1, 2017. The amendments to 47 CFR 4.5(b) published at 81 FR 45055, July 12, 2016, are effective June 22, 2017. The amendments to 47 CFR 4.5(c) published at 81 FR 45055, July 12, 2016, are effective July 24, 2017.

Compliance dates:

• For reporting of critical communications outages potentially affecting airports, July 24, 2017.

• For use of OC3-based metric for reporting major transport facility outages, with a corresponding threshold of 667 OC3 minutes for 30 minutes, February 1, 2018.

• For reporting of simplex outages that persist for at least 96 hours, December 22, 2017.

• For use of revised methodology to calculate the number of potentially affected users for wireless network outages, and use of adopted methodology to estimate the number of potentially affected wireless users for wireless outages affecting a PSAP, May 1, 2018.

• For adherence to the clarified standard for outages that significantly degrade communications to PSAPs, June 22, 2018.

• For reporting of events impacting special offices and facilities enrolled in the TSP Program as Level 1 or Level 2, and disruptions impacting airports listed as current primary (PR) airports in the FAA's National Plan of Integrated Airports Systems, December 22, 2018.

FOR FURTHER INFORMATION CONTACT: Brenda Villanueva, Cybersecurity and Communications Reliability Division, Public Safety and Homeland Security Bureau, at (202) 418-7005, or email: brenda.villanueva@fcc.gov.

SUPPLEMENTARY INFORMATION: This document announces that, on January 17, 2017, OMB approved, for a period of three years, the information collection requirements relating to the outage reporting rules contained in the Commission's Order, FCC 16-63, published at 81 FR 45055, July 12, 2016. The OMB Control Number is 3060-0484. The Commission publishes this document as an announcement of the effective dates of the rules. If you have any comments on the burden estimates listed below, or how the Commission can improve the collections and reduce any burdens caused thereby, please contact Nicole Ongele, Federal Communications Commission, Room 1-C823, 445 12th Street SW., Washington, DC 20554. Please include the OMB Control Number, 3060-0484, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on January 17, 2017, for the information collection requirements contained in the modifications to the Commission's rules in 47 CFR part 4.

Under 5 CFR 1320, an agency may not conduct or sponsor a collection of information unless it displays a current, valid OMB Control Number. No person shall be subject to any penalty for failing to comply with a collection of information subject to the Paperwork Reduction Act that does not display a current, valid OMB Control Number. The OMB Control Number is 3060-0484. The foregoing notice is required by the Paperwork Reduction Act of 1995, Public Law 104-13, October 1, 1995, and 44 U.S.C. 3507.

The total annual reporting burdens and costs for the respondents are as follows:

OMB Control Number: 3060-0484.

OMB Approval Date: January 17, 2017.

OMB Expiration Date: January 31, 2020.

Title: Part 4 of the Commission's Rules Concerning Disruptions to Communications.

Form Number: Not applicable.

Type of Review: Revision of a currently approved collection.

Respondents: Business or other for-profit entities; not-for-profit institutions.

Number of Respondents and Responses: 798 respondents; 13,012 responses.

Estimated Time per Response: 2 hours.

Frequency of Response: On occasion and annual reporting requirements, recordkeeping requirement and third party disclosure.

Obligation to Respond: Mandatory. Statutory authority for this information collection is contained in 47 U.S.C. 151, 154(i)-(j) & (o), 201(b), 214(d), 218, 251(e)(3), 301, 303(b), 303(g), 303(r), 307, 309(a), 316, 332, 403, 615a-1, and 615c. Total Annual Burden: 25,006 hours.

Total Annual Cost: No cost.

Nature and Extent of Confidentiality: In accordance with 47 CFR 4.2, reports and information contained therein are presumed confidential. The filings are shared with the Department of Homeland Security through a password-protected real time access to NORS. Other persons seeking disclosure must follow the procedures delineated in 47 CFR 0.457 and 0.459 of the Commission's rules for requests for and disclosure of information. The revisions noted in this information collection do not affect the confidential treatment of information provided to the Commission through outage reports filed in NORS.

Privacy Act: No impact(s).

Needs and Uses: On May 26, 2016, the Commission adopted a Report and Order, Order on Reconsideration, and Further Notice of Proposed Rulemaking, PS Docket Nos. 15-80, 11-60, and ET Docket No. 04-35; FCC 16-63 (The Report and Order and Order on Reconsideration) adopting final and proposed rules. The information to be collected pertains to final rules summarized and published in the Federal Register on July 12, 2016, 81 FR 45055. The general purpose of the Commission's Part 4 rules is to gather sufficient information regarding disruptions to telecommunications to facilitate FCC monitoring, analysis, and investigation of the reliability and security of voice, paging, and interconnected VoIP communications services, and to identify and act on potential threats to our Nation's telecommunications infrastructure. The Commission uses this information collection to identify the duration, magnitude, root causes, and contributing factors with respect to significant outages, and to identify outage trends; support service restoration efforts; and help coordinate with public safety officials during times of crisis. The Commission also maintains an ongoing dialogue with reporting entities, as well as with the communications industry at large, generally regarding lessons learned from the information collection in order to foster a better understanding of the root causes of significant outages, and to explore preventive measures in the future so as to mitigate the potential scale and impact of such outages.

Federal Communications Commission.
Marlene H. Dortch,
Secretary.

[FR Doc. 2017-12877 Filed 6-21-17; 8:45 am]

BILLING CODE 6712-01-P